DEPARTMENT OF TRANSPORTATION

Coast Guard

33 CFR Part 164

46 CFR Parts 25 and 27

[USCG 2000-6931]

RIN 2115-AF53

Fire-Suppression Systems and Voyage Planning for Towing Vessels

AGENCY: Coast Guard, DOT.

ACTION: Supplemental notice of proposed rulemaking.

SUMMARY: The Coast Guard proposes to improve the safety of towing vessels by requiring the installation of fixed fire-extinguishing systems in their engine rooms, and by requiring their owners or operators, and their masters, to ensure that voyage plans are complete before they commence their trips with any barge in tow. These rules would reduce the number of uncontrolled fires in engine rooms, and other fire-related or operational mishaps on towing vessels. As a result, they would save lives, diminish property damage, and reduce the associated threats to the environment and maritime commerce.

DATES: Comments must reach the Coast Guard on or before March 8, 2001.

ADDRESSES: To make sure your comments and related material do not enter the docket [USCG 2000-6931] more than once, please submit them by only one of the following means:

(1) By mail to the Docket Management Facility, U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this rulemaking. Comments, and documents as indicated in this preamble, will become part of this docket and will be available for inspection or copying at room PL-401 on the Plaza level of the Nassif Building at the same address between 10 a.m. and 5 p.m., Monday through Friday, except Federal holidays. You may also access this docket on the Internet at http://dms.dot.gov.

FOR FURTHER INFORMATION CONTACT: For questions on this proposed rule, call Mr. Randall Eberly, P. E., Project Manager, telephone 202-267-1861. For questions on viewing, or submitting material to, the docket, call Ms. Dorothy Beard, Chief, Dockets, Department of Transportation, telephone 202-366-9329.

SUPPLEMENTARY INFORMATION:

Request for Comments

The Coast Guard encourages interested persons to participate in this rulemaking by submitting written data, views, or arguments. Persons submitting comments should include their names and addresses, identify this rulemaking [USCG 2000-6931] and the specific section of this document to which each comment applies, and give the reason for each comment. Please submit all comments and attachments in an unbound format, no larger than 8½ by 11 inches, suitable for copying and electronic filing, to the Docket Management Facility at the address under ADDRESSES. Persons wanting acknowledgment of receipt of comments should enclose stamped, self-addressed postcards or envelopes.

The Coast Guard will consider all comments received during the comment period. It may change these rules in view of the comments.

Public Meeting

The Coast Guard plans to hold a public meeting during the comment period for this SNPRM, at a place and time announced in a later notice in the Federal Register. Persons may ask for more than one meeting by writing to the Docket Management Facility at the address under ADDRESSES. The request should include the reasons why more than one meeting would be beneficial. If it determines that added opportunity for oral presentations will aid this rulemaking, the Coast Guard will hold more than one meeting at places and times announced by a later notice in the Federal Register.

Background and Purpose

On January 19, 1996, the tugboat SCANDIA, towing the oil barge NORTH CAPE, caught fire five miles off the coast of Rhode Island. The crew could not control the fire, and without power they were unable to prevent the barge carrying 4 million gallons of oil from grounding and spilling about a quarter of its contents into the coastal waters. The spill led Congress to amend 46 U.S.C. 4102, in section 902 of the Coast Guard Authorization Act of 1996 (Pub. L. 104-324) (the Authorization Act), so as to direct that the Secretary of Transportation prescribe rules on fire-suppression systems for vessels towing single-hull non-self-propelled tank vessels.

On October 6, 1997, the Coast Guard published a Notice of Proposed Rulemaking (NPRM), Safety of Towing Vessels [CGD 97-064] (62 FR 52057), that proposed fire-suppression measures for all towing vessels but not the mandatory installation of fixed fire-extinguishing systems. Instead, the NPRM proposed alternatives that comprised fire-detection systems, semi-portable fire extinguishers, training of crewmembers, and fixed or portable fire pumps for the protection of existing towing vessels and for new towing vessels under 24 meters in length, regardless of the cargoes transported. The NPRM proposed these measures after we had reviewed data on casualties that revealed 105 reported fires in the engine rooms of towing vessels between 1992 and 1996. Each of these fires represented a potential obstruction to maritime commerce and each resulted in property damage. Many in fact resulted in total constructive losses of the vessels, and several necessitated the use of outside resources to bring the distressed vessels under control. Also, the Towing Safety Advisory Committee (TSAC) recommended that any proposed rules apply to all towing vessels, regardless of type of cargo, so that operators could maintain flexibility over the cargoes that they may tow.

The TSAC also recommended that the rules apply only to vessels 12 meters in length or longer. However, application only to such vessels did not meet the mandate in the Authorization Act, which did not distinguish among vessels by length. The Act, instead, required the installation of fire-suppression systems on vessels that tow single-hull non-self-propelled tank vessels. Vessels less than 12 meters in length can and often do tow such tank vessels. Moreover, the Coast Guard is concerned that a significant fire could occur on any towing vessel, regardless of length or cargo.

On October 19, 1999, we published an Interim Rule on Fire Protection Measures for Towing Vessels [USCG 1998-4445] (64 FR 56257). For all towing vessels except those specifically exempted, that Rule requires general-alarm systems, internal communication systems, fire-detection systems, and remote fuel-shutoffs; sets standards for fuel systems; and states criteria for monthly drills. It does not address the remainder of the fire-protection measures proposed in the NPRM; it defers those that relate to manual fire-fighting. Those are the subjects of this Supplemental Notice of Proposed Rulemaking (SNPRM). The intent of this SNPRM is to reconsider requirements for manual fire-fighting equipment versus the installation of fixed fire-extinguishing systems for all towing vessels. The Coast Guard does not anticipate that this SNPRM will delete or modify any of the other measures required by the Interim Rule. A separate Final Rule [USCG 1998-4445] published on August 28, 2000 (65 FR 52043), accomplished minor changes to the Interim Rule.

Statutory Mandate

Section 902 of the Authorization Act furnishes the authority for these proposed rules. It directs the Coast Guard, after consultation with the TSAC, and after taking into consideration the characteristics, methods of operation, and nature of service of towing vessels, to consider requiring the installation, maintenance, and use of a fire-suppression system or other measures on towing vessels. These measures are to provide adequate assurance that fires on board towing vessels “can be suppressed under reasonably foreseeable circumstances”. The Act further directs that, in particular, the Coast Guard develop rules for the installation “of a fire-suppression system or other measures to provide adequate assurance that a fire on board a towing vessel that is towing a non-self-propelled tank vessel can be suppressed under reasonably foreseeable circumstances”. (46 U.S.C. 4102(f)(1))

Discussion of Requirements

These Rules Would Apply to Most Towing Vessels.

These rules would prescribe that most towing vessels—

• Be fitted with fixed fire-extinguishing systems for the protection of their engine rooms; and

• Not proceed on trips or voyages before plans for those trips or voyages are complete.

Towing vessels that engage only in assistance towing, pollution response, or fleeting duties in limited geographical areas would be exempt from the measures in this SNPRM. Yet all other towing vessels, not just those over a certain length or those that tow non-self-propelled tank vessels, would be subject to those measures. Owners of existing towing vessels would, nevertheless, have five years after the effective date of these rules to install the required fixed fire-extinguishing systems. The voyage-planning requirement would likely go into force on the effective date of these rules.

Requirement for a Fixed Fire-Extinguishing System: What Factors Were Considered in Determining This Approach?

In the NPRM, we proposed several manual fire-fighting measures for existing vessels rather than specify fixed fire-extinguishing systems. Those measures included semi-portable fire extinguishers, fire pumps and hoses, and fire axes. We proposed them because we were concerned that gaseous fixed fire-extinguishing systems may not be effective on existing vessels. Every one of those systems requires an airtight enclosure to build up and maintain the necessary concentration of the extinguishing agent. Many existing towing vessels are constructed with engine rooms that may not be sufficiently airtight to accomplish this. We were also concerned that, without proper containment, the extinguishing agent could leak into occupied areas and harm the crew. When we published the NPRM, the only approved extinguishing agent available was carbon dioxide, which is not acceptable for use in occupied areas or in areas where its accidental release could threaten adjacent occupied areas. During the comment period for the NPRM, however, several respondents reminded us of existing technical criteria for the design of total-flooding fire-extinguishing systems to protect even enclosed spaces that cannot be made entirely airtight. Partly open spaces can be successfully protected by providing enough added extinguishing agent to compensate for the quantity of gas that escapes from uncloseable openings during the discharge. Other respondents felt that we should require not only fixed fire-extinguishing systems but also the necessary bulkheads and decks, or sealing measures, to properly enclose engine rooms and make the systems effective.

After both a review of the public comments and our further analysis, we have decided to change our approach to fire protection, and propose to require fixed fire-extinguishing systems, instead of manual fire-fighting equipment, for the protection of all engine rooms. We decided this out of concern for the safety of the crews of towing vessels. If we had continued with our original approach, we would have made it necessary for the crews to enter burning engine rooms for manual fire-fighting. Towing vessels normally operate with minimal manning. There might not be enough crewmembers available to effectively and safely fight a fire, and those that tried would be exposed to an environment that is dangerous to their health. We discuss this concern further when we explain why we would apply these rules to all vessels. Also, training in basic and advanced marine fire-fighting is essential for anyone fighting a fire on any vessel. Anyone assigned to such a duty would need to complete periodic refresher-training courses as well.

We propose the use of any one of three types of fixed fire-extinguishing systems. We are specifically inviting the public to comment on this approach. By allowing a choice among the three, we expect, we will enable operators of towing vessels to select a form of protection that will be effective onboard their vessels.

Alternative Agents: Why Are We Proposing new Types of Extinguishing Systems?

Our further review of the proposed rules for fixed fire-extinguishing systems led us to carefully examine the possibility of exposing the crew to harmful extinguishing agents. Since publishing the NPRM, we have issued type approvals to several manufacturers whose systems use FM-200 and Inergen as the extinguishing agents. These agents serve as replacements for Halon 1301, previously in use onboard ships. The use of Halon 1301 presented an acceptable risk to human exposure. Despite this, its use was restricted in 1987 because, being an ozone-depleting substance, it presented an unacceptable risk to the atmosphere. Each of the new agents that we are proposing is both harmless to the atmosphere and safe for human exposure. Engine rooms protected by any of them would pose less risk to the crewmembers in adjacent areas in case of an accidental release. Technical information explaining the design and installation of fixed fire-extinguishing systems that use them appears in Standard 2001 of the National Fire Protection Association (NFPA).

Water-mist fire-extinguishing systems are another alternative that we are considering for engine rooms of towing vessels. These systems represent recent technology that uses very fine droplets of water as the extinguishing agent. Unlike traditional automatic sprinkler systems, these systems spray water as droplets, and leave very little residual water after the fire is extinguished. The fire-extinguishing ability of these systems is comparable or superior to that of traditional sprinkler systems. They are also safe for human exposure. Technical information explaining their design and installation appears in NFPA Standard 750. We are proposing standards for them based on full-scale tests we conducted to develop the criteria for protecting engine rooms. We expect that, by the time these rules become final, water-mist systems approved by the Coast Guard will be commercially available. Our proposed design criteria are based on selected parts of Circular 913 of the Maritime Safety Committee of the International Maritime Organization (IMO MSC/Circ. 913), “Guidelines for the Approval of Fixed Water-based Local Application Fire-fighting Systems for Machinery Spaces of Category A,” supplemented by technology developed in our research. Public comment on these criteria is especially welcome. Our current intent is to approve water-mist systems that meet the following criteria:

1. The water-mist system must be a local-application system that covers the entire engine room with a uniform grid of pendant nozzles located about 1 meter below the topmost grating or overhead, as applicable. The distance from the nozzles to the deck plating of the engine room must be within the tested limits for separation between hazard and nozzle.

2. More nozzles must be installed to protect obstructed hazards such as fuel lines and fittings, as specified by the manufacturer.

3. More nozzles must be installed to protect bilges greater than 0.75 meter in depth, as specified by the manufacturer.

4. The system must be an open-head, deluge-type one with a manual release. This release must be located outside a main exit from the engine room, and another must be located at the engineering control booth or station, if there is one.

5. The storage cylinders and controls of the system must be located outside the engine room, or, if inside, at a site shielded from direct exposure to fire from below.

6. The system must be self-contained and must require no external source of power.

7. Operation of the system must cause the ventilation fans and fuel pumps of the engine room to shut down.

8. Release of the system must involve two separate acts: break glass—pull handle; open door—pull handle; or equivalent.

9. The system must successfully pass the fire-test protocols in IMO MSC/Circ. 913, “Guidelines for the Approval of Fixed Water-based Local Application Fire-fighting Systems for Machinery Spaces of Category A.”

10. Testing of components must accord with the following provisions of Appendix A of IMO MSC/Circ. 728, “Revised Test Method for Equivalent Water-Based Fire-extinguishing Systems for Machinery Spaces of Category A and Cargo Pumprooms contained in MSC/Circ. 668”:

3.4 Water flow and distribution.

3.6 Strength of body.

3.11 Corrosion.

3.16 Resistance to vibration (Plus functional test in 3.5.2 only).

3.22 Clogging.

11. The storage cylinders of the system must hold enough water to let the system operate at full flow for at least 10 minutes.

12. The system must have a backup 40-mm (1.5-inch) fire-department connection somewhere on the open deck not likely to be exposed to a fire in the engine room.

13. An independent laboratory must approve the water-mist system.

The rules proposed here would require that a fixed fire-extinguishing system be installed in the engine room. They would not specify the types of systems that are acceptable. Instead, they would rely on the definition for the term “fixed fire-extinguishing system” that was previously stated in the Interim Rule on Fire Protection Measures for Towing Vessels [USCG 1998-4445] (64 FR 56257). The definition does not appear in the regulatory text of this SNPRM, because it has already been adopted in final form. It is repeated here, however, for continuity:

Fixed Fire-Extinguishing System means a carbon-dioxide system that satisfies 46 CFR subpart 76.15; a manually-operated clean-agent system that satisfies NFPA 2001 and is approved by the Commandant; or a manually-operated water-mist system that satisfies NFPA 750 and is approved by the Commandant.

Safety of Crewmembers of Towing Vessels: What About the Use of Manual Fire-Fighting on Towing Vessels?

Many of the respondents who submitted comments on the NPRM criticized our proposed requirements for manual fire-fighting equipment. Their primary concern was for the safety of the crewmembers expected to fight the fires. They argued that manual fire-fighting would meet with limited success on engine-room fires, for a number of reasons. To begin with, the crew would need self-contained breathing apparatus and personal protective gear (which the proposed rule would not have required). Beyond this, the crew would need practical training in marine fire-fighting, including the use of semi-portable fire extinguishers and manual hose-streams. Then, effective fire-fighting would entail a minimum of trained fire-fighters on board the vessel whenever it is operating. Our review of typical manning on towing vessels indicates that there are too few people on board the vessels to both fight expected fires and safely operate the vessels. NFPA Standard 1500, “Fire Department Occupational Safety and Health Program,” recommends limiting fire-fighting by the number of persons available on the scene. For interior fire-fighting in particular, the standard recommends that at least four fire-fighters be available. Many towing vessels do not carry crews of four or more persons. A fire in the engine room of a towing vessel presents a higher risk than a typical fire in a building because of the presence of combustible liquids within the steel casing of the engine room. Unlike a typical fire in a building, which can be attacked from the street level, a fire in the engine room of a towing vessel must be attacked from above. A fire party trying to enter an engine room from above to extinguish such a fire will encounter extremely high temperatures and vision-obscuring smoke and toxic gases. By contrast, a fixed fire-extinguishing system is installed with its operating controls located outside the engine room. The crew does not need to enter the burning space to activate it.

Ultimately, this SNPRM proposes that all towing vessels—other than those exempted by 46 CFR 27.100(b)—carry fixed fire-extinguishing systems after the effective date of any eventual rules, to protect their engine rooms.

Discussion of Comments and Changes

The Coast Guard received a total of 54 letters to the docket, and remarks at the public meetings in St. Louis, MO, and Newport, RI, which generally reiterate the written comments. Taken together, there are about 208 comments to the public docket of the NPRM on the Safety of Towing Vessels. The 67 comments relating to systems for anchoring and barge retrieval we addressed in an Interim Rule (63 FR 71754 (December 30, 1998)) on Emergency Control Measures for Tank Barges (USCG 1998-4443). Comments relating to fire-protection measures we addressed in another Interim Rule (64 FR 56257 (October 19, 1999)), on Fire-Protection Measures for Towing Vessels (USCG 1998-4445). We received comments related to this SNPRM, though not submitted to this docket, from six respondents who submitted comments relating to the Interim Rule on fire-protection measures. We address their comments here. The remaining comments concerned methods and equipment for suppressing fires: fixed fire-extinguishing systems; fire pumps, hydrants, and hoses; semi-portable fire extinguishers; fire axes; and muster lists. We address them, as well as voyage planning, here as well.

Fixed Fire-Extinguishing Systems

Some public respondents argue that the proposed requirements should apply only to certain towing vessels. They believe that only towing vessels that transport barges laden with oil or similar hazardous substances, or that travel on routes where ecologically sensitive areas are under threat, should have to install fire-extinguishing equipment.

The nature of the cargo being transported on a barge does not affect the likelihood of its towing vessel's suffering an engine-room fire with associated risk to the crew. Also, towing vessels may take turns transporting barges laden with different materials or may travel on different routes. It is neither practical nor feasible to restrict their service in accordance with the commodities transported on their barges or the routes they may travel. It is therefore necessary to protect the engine rooms on all towing vessels against fire.

Another respondent stated that the proposed requirement for a fixed fire-extinguishing system that stops the main engines could cause greater danger than allowing the master to ground the vessel. He notes that, in inland service, a controlled grounding can safely situate the vessel before fire-fighting begins.

We agree that, in certain instances, emergency maneuvering of the vessel may be necessary before fire-fighting begins; but that does not mean these proposed rules should change. There is no way to predict exactly how a fire will develop. The master and crew must respond to it as it does develop. The immediate concern may well be to move the vessel to a different heading or a safe site before trying to extinguish the fire. In other cases the first step may be to try to control or extinguish the fire. If some means of fire suppression is installed on the vessel, the master is free to respond in the sequence he or she decides is best.

Fire Pumps, Hydrants, and Hoses

The NPRM proposed detailed standards for fire pumps, hydrants, and hoses to be installed on board all towing vessels so that their crews could manually extinguish engine-room fires. Many respondents criticized our standards for fire pumps as “overstated and * * * difficult to comply with.” Many feared that our stringent standards for rates of both waterflow and pressure would entail the replacement of numerous existing smaller pumps that have proved adequate thus far. Still others recommended against the use of portable pumps because of difficulties stowing, deploying, and operating them. Many correctly pointed out that the proposed fire pump or the generators used to power it would have to be stowed or even installed in the engine room. If a significant fire occurred there, the pump or the generator would be damaged before fire-fighting commenced. Finally, some expressed the opinion that towing vessels with approved fixed fire-extinguishing systems are adequately protected and should not also have to carry fire pumps. Because we agree with this view, we have dropped all proposed requirements for fixed and portable fire pumps, hydrants, and hoses.

Semi-Portable Fire Extinguishers

The NPRM would have required either a B-III or B-V semi-portable fire extinguisher on every towing vessel, linked to the size of the vessel. Many respondents criticized the use of manual equipment over their concerns for the crewmembers' safety. Others argued that, unless the semi-portable extinguisher were located outside the engine room, a fire would damage it before it could be used. Still others recommended that several small extinguishers could substitute for a single large one. Because we have decided to require fixed fire-extinguishing systems instead of manual fire-fighting equipment, we have dropped all proposed requirements for semi-portable extinguishers. The proposed § 27.325 would have required that every new towing vessel 24 meters or longer in length must have a fixed fire-extinguishing system and an approved B-V semi-portable extinguisher. Because of our misgivings over the use of manual fire-fighting equipment by the crewmembers, we have also dropped the proposal for semi-portable fire extinguishers for this category of new vessels.

Fire Axes

The NPRM would have required that fire axes be available on board all towing vessels. These axes help in manual fire-fighting and overhaul. Yet several respondents questioned the need for them.

We have reconsidered, and have concluded that, because this rule proposes the use of fixed fire-extinguishing systems instead of manual fire-extinguishing measures, fire axes are no longer necessary. These rules would not require them.

Muster Lists

The NPRM called for muster lists that would assign specific duties to each crewmember during a fire. In the Interim Rule, we instead decided to require, and did require, that crewmembers participate in regular drills. This ensures that crewmembers know the locations and operations of all onboard fire-extinguishing equipment and of related shutdowns of fuel and ventilation.

We suspect that the requirement for periodic drills will prove more beneficial than one for mere muster lists would, because crewmembers will learn the locations and operations of the equipment and shutdowns installed aboard their vessels. This SNPRM, therefore, proposes no requirements for muster lists.

Voyage Planning

Six letters included comments from respondents about voyage planning. We will address all of them here.

One respondent recommended that the Coast Guard require that up-to-date copies of tables of tides and currents be available for ready reference during every voyage. These and several others are already mandatory under 33 CFR 164.72(b).

Two respondents doubted whether we could adequately address voyage planning by a Navigation and Vessel Inspection Circular (NVIC). Their skepticism is well-founded. Since a NVIC is unenforceable, it affords none of the needed leverage over the operators who do not observe these basic requirements of good marine practice. Therefore, with this SNPRM, the Coast Guard is proposing an actual requirement. However, we do plan to work with the TSAC in developing a NVIC on voyage planning to provide guidance to assist with thorough implementation of this requirement.

One respondent suggested adding to voyage plans for every towing vessel—

• Updated charts and publications concerning the accuracy, dependability, and functioning of available navigational aids;

• Identification of environmentally sensitive areas planned for by Area Committees formed under 33 U.S.C. 1321(j)(4);

• Bar-crossing procedures that contain criteria for “go” or “no go” and that address security of the barge and towing vessel; and

• Appropriate checks of navigational equipment before getting under way and entering pilotage waters.

The Coast Guard partly agrees. A requirement for the carriage of updated charts and publications on towing vessels already exists, in 33 CFR 164.72(b), and we are here proposing a requirement for their use. Each owner or operator, and each master, would have to consider charted hazards to navigation and known environmentally sensitive areas (noted on charts or maps) in voyage and trip plans under these rules. Any such requirement by its very nature should be broadly applicable (nationwide) and general. A NVIC developed in cooperation with the TSAC would provide details for trip and voyage plans as guidelines.

Two respondents stated that the proposed voyage-planning requirements would neither promote consistency nor be enforceable.

We disagree. This SNPRM proposes a general rule applicable nationwide. A NVIC would address specific regional circumstances. A rule and a NVIC together, widely disseminated and available for all companies and masters to use and follow, would render voyage-planning standards enforceable and consistent. The Ports and Waterways Safety Act contains the legislative authority to require voyage planning on uninspected towing vessels. That statute allows the Coast Guard to promulgate such a requirement for vessels operating on the navigable waters of the United States. In 1998, Congress amended the definition of “navigable waters of the United States” to include the waters of the territorial sea out to 12 nautical miles from the baseline. (33 U.S.C. 1222(5), 43 U.S.C. 1331) We would change the applicability of proposed rule 33 CFR 164.80 to require voyage plans on all uninspected towing vessels operating on the navigable waters of the United States.

Fuel Systems for Portable Pumps on Existing Vessels

During the comment period for the NPRM, we received a comment regarding proposed 46 CFR 27.340(c), Fuel restrictions. This paragraph would have restricted towing vessels, except for outboard engines, to the use of bunker C or diesel fuel. The comment urged us to allow the use of gasoline as fuel for portable fire pumps.

We do not want to encourage the use or storage of gasoline onboard towing vessels, because of its low flashpoint and potential for ignition. Anyway, the rules proposed here no longer contemplate portable fire pumps for the protection of engine rooms. Instead, they contemplate fixed fire-extinguishing systems for that. We have, therefore, not done what the comment urged.

Incorporation by Reference

The material that we would incorporate by reference appears in proposed 46 CFR 27.227. It is already available for inspection at room 1308 of Coast Guard Headquarters, 2100 Second Street SW., Washington, DC, 20593-0001. Copies of it would be available from one of the sources listed in 46 CFR 27.102. Before publishing a binding rule, we would submit this material to the Director of the Federal Register for approval of the incorporation by reference.

Regulatory Evaluation

This rulemaking is not a significant regulatory action under section 3(f) of Executive Order 12866 and does not require an assessment of potential costs and benefits under section 6(a)(3) of that Order. It has not been reviewed by the Office of Management and Budget under that Order.

A draft Regulatory Evaluation under paragraph 10e of the regulatory policies and procedures of DOT is available in the docket for inspection or copying where indicated under ADDRESSES. A summary of the Evaluation follows:

This Evaluation addresses rules mandated by Section 902 of the Authorization Act. This SNPRM would require the installation of fixed fire-extinguishing systems on board towing vessels. Such systems would serve to reduce the number of uncontrolled engine-room fires. This SNPRM would also require voyage plans for all transits of towing vessels with any barges in tow. When fully implemented, the measures outlined in this SNPRM should significantly reduce the likelihood of deaths, injuries, and environmental and property damage resulting from fires on board and other casualties to towing vessels.

The net cost-effectiveness of this SNPRM would be $5,754 per barrel of pollution avoided. The net cost-effectiveness of the fixed fire-extinguishing systems would be $9,889 per barrel of pollution avoided, while the net cost-effectiveness of voyage-planning would be −$70 per barrel of pollution avoided.

Summary of Costs

The present value of the total cost of these rules over the 13-year period of analysis would be $115,915,169 ($109,809,202 for fixed fire-extinguishing systems + $6,105,967 for voyage planning = $115,915,169). The present value of the total benefit (or avoided costs) would be $30,007,645 ($23,467,869 from fixed fire-extinguishing systems and $6,539,776 from voyage planning). Therefore, the net cost would be $85,907,525 in 2000 dollars ($115,915,169 minus $30,007,645 = $85,907,525). In return, the measures contained in this SNPRM would prevent 14,925 barrels of pollution.

Cost for Voyage Planning

This SNPRM would require the master of a non-exempted towing vessel to complete a voyage plan before he or she made a voyage, transit, or trip (lasting at least 12 hours from homeport or point of origin) on navigable waters of the United States. Voyage planning is already mandatory for vessels towing oil-laden tank barges within the First Coast Guard District and, to some extent, for other towing vessels.

The master of the towing vessel validates the voyage plan before the voyage, transit, or trip. He or she ensures that the voyage plan is followed, or, if changes to the plan are considered during the voyage, that the plan is modified or updated before the changes are carried out.

We estimate that it would take the master of the vessel, on average, around 30 minutes (or 0.5 hour) to prepare a voyage plan for each transit. The average daily billing rate for the master is $350, based on a twelve-hour day. This translates to a cost of $14.58 to prepare a voyage plan. [($350/12 hours) × 0.5 hour = $14.58.] An average towing vessel (with barge in tow) completes about 120 non-exempt trips each year. Thus, the 4,467 non-exempt towing vessels complete about 536,040 trips each year (4,467 vessels × 120 trips/vessel = 536,040 trips).¹ The Coast Guard estimates that 90 percent of towing vessels (and consequently, 90 percent of voyages) already are in compliance with the voyage-planning requirement. Therefore, we estimate that 10 percent (or 53,604) of the voyages currently are not, and without the requirement would continue to not be.

¹Currently, vessels that tow oil-laden tank barges in the First District must complete voyage plans. Although we could subtract the 250 towing vessels that operate in the First District from the total population, we do not, because we assume that those 250 may tow freight barges as well.

The annual cost of voyage planning would be $781,725 ($14.58/voyages × 53,604 voyages = $781,725). Over the 13-year period of analysis, the total cost of voyage planning is $6,105,967 in 2000 dollars.

Cost for Fixed Fire-Extinguishing Systems

The total cost of the requirement for a fixed fire-extinguishing system is the sum of the cost to purchase and install the system, the cost to annually maintain and test the system, and any revenue that may be lost while a vessel is out of service to have the system installed. The present value of the total cost of the requirement of the fixed fire-extinguishing system would be $109,809,202 ($93,686,251 for purchase and installation + $11,119,576 for annual maintenance and testing + $5,503,375 for lost revenue = $109,809,202).

Cost To Purchase and Install

Using our database, the Marine Safety Management System (MSMS), we estimate that there are 6,421 documented towing vessels; from there, we further estimate that 4,467 of those are not exempt from this rulemaking. From sources in industry, we estimate that 77 percent (or 3,440) of the 4,467 non-exempt vessels do not have fixed fire-extinguishing systems (FFES). Consequently, we estimate that during the 5-year phase-in period 3,440 towing vessels would have to purchase and install FFESs.

The cost to purchase and install a FFES varies with the length of the vessel. We estimate that the average cost to each of the 2,339 small vessels (less than 24 meters in length) would be $25,000. The average cost to each of the 1,101 large vessels (greater than or equal to 24 meters in length) would be $55,000. We recognize that the cost to retrofit some of the large vessels may be over $100,000; however, the average would be $55,000. The combined cost to the 3,440 vessels would be $119,009,814 [(2,339 × $25,000) + (1,101 × $55,000) = $60,536,784 + $58,473,030 = $119,009,814].

The 3,440 vessels would have five years each to purchase and install a FFES; and the average annual cost for a vessel from 2002 through 2006 to purchase and install one would be $23,801,963 ($119,009,814/5 = $23,801,963).

Each year, we expect, 18 new vessels would purchase and install FFESs. We also expect that 68 percent (or 12) of the new vessels would be small and that 32 percent (or 6) would be large, for a total cost of $622,800 [(12 × $25,000) + (6 × $55,000) = $622,800]. However, we also expect that the population of vessels would remain constant. Consequently, each year during the 5-year phase-in period, we expect that 670 existing vessels and 18 new vessels would purchase and install them (670 + 18 = 688). Over the 13-year period of analysis, therefore, the present value of the total cost for towing vessels to purchase and install them would be $93,686,251 (in 2000 dollars).

Cost To Maintain and Test

A FFES needs maintenance and testing in accordance with the manufacturer's design manual. This maintenance and testing would involve an overall check of the system, functional testing of the system's operating controls and alarms, and a check of the cylinders that supply the fire-extinguishing agent, to verify that the weight and pressure of the stored agent fall within prescribed limits.

The Coast Guard estimates that the average cost for maintenance and testing of a FFES would be $600 per year. Over the 13-year period of analysis, therefore, the present value of the total cost to maintain and test these systems annually would be $ 11,119,576 in 2000 dollars.

Cost of Revenue Lost

Although there would be a 5-year phase-in period, which should give each owner the flexibility to schedule the installation of a FFES, some owners may lose revenue. However, the ability to avoid losing revenue on the flexibility may depend upon the number of towing vessels owned as well. While a vessel is out of service to have an FFES installed, an owner of more than one towing vessel may be able to put another vessel into service. Thus, the revenue lost by one vessel could become the revenue gained by another vessel, and the owner might not lose revenue.

Thus, we estimated that the expected revenue lost by each vessel depends upon the size of the vessel and the number of vessels owned. See the following Table (we assume that new vessels would not lose revenue, because each would have a FFES installed before going into service):

Number of non- exempted towing vessels owned | Expected revenue lost by each small vessel | Expected revenue lost by each large vessel
1 | 4,000 | 9,000
2 | 3,200 | 7,200
3 | 1,600 | 3,600
4 | 800 | 1,800
5 or more | 0 | 0

We estimate that, during each year of the 5-year phase-in period, 670 existing vessels would each purchase and install a FFES. From a sample of 3,328 non-exempt towing vessels, we found the following distribution:

Number of non- exempted towing vessels owned | Expected revenue lost by each small vessel | Expected revenue lost by each large vessel
1 | 60.5 | 21.6
2 | 14.6 | 10.4
3 | 8.7 | 9.3
4 | 3.9 | 5.5
5 or more | 12.3 | 53.2
Total | 100.0 | 100.0

From our MSMS database, we expect that 68 percent of these vessels are small and 32 percent are large. Furthermore, we expect that 21.6 percent belong to fleets of one, 10.4 percent to fleets of two, 9.3 percent to fleets of three, 5.5 percent to fleets of four, and 53.2 percent to fleets of five or more. From all this, we estimate that 670 vessels altogether would lose revenue of $1,305,696 each year during the 5-year phase-in period. Over the period of analysis, the present value of the total revenue lost would be $5,503,375.

Summary of Benefits

Benefits for Voyage-Planning

A team of analysts identified cases between January 1, 1992, and December 31, 1996, that involved the grounding, sinking, capsizing, allision, or loss of control of towing vessels. The team determined that 40 of those cases could have had their losses reduced with voyage planning.² These 40 provided the pool from which the team estimated the expected benefits. On average, voyage planning would have reduced the probability of a casualty by 15 percent. We used that percentage to estimate the losses avoided by the voyage planning.

² The small number of cases during the five-year period supports the Coast Guard's estimate that 90 percent of the vessels currently prepare and follow voyage plans.

Over the 13-year period of analysis (2002-2014), we estimate that the present value of damages, deaths, and injuries avoided would be $6,539,776 in 2000 dollars ($5,263,336 for damages avoided + $1,265,364 for deaths or missing persons avoided + $11,076 for injuries avoided = $6,539,776).

Given that the present value of the total cost of voyage planning would be $6,105,967, the total cost of pollution avoided by voyage planning would be $986 per barrel ($986/barrel = $6,105,967/6,194 barrels = $986 per barrel). With the present value of the net cost of voyage planning being −$433,809, the net cost of pollution avoided would be −$70 per barrel [−$70/barrel = ($6,105,967-$6,539,776)/6,194 barrels]. See Table 1.

Table 1.—Cost-Effectiveness of Voyage Planning
Present Value of Cost of Voyage Planning | $6,105,967
Barrels of Pollution Avoided by Voyage Planning | 6,194
Cost Per Barrel of Pollution Avoided | $986
Present Value of Avoided Costs of Voyage Planning | $6,539,776
Net Cost of Voyage Planning | −$433,809 ³
Net Cost per Barrel of Pollution Avoided | −$70 ⁴

Benefits for Fixed Fire-Extinguishing Systems

Before estimating the damages avoided by fixed fire-extinguishing systems, we subtracted voyage-planning benefits for any case of a casualty that involved an engine-room fire and that would have realized benefits from voyage planning in order to avoid double-counting of benefits. To estimate the average annual damages avoided by fixed fire-extinguishing systems for those cases where voyage planning would confer a first-tier benefit, we multiplied the average annual damages of $3,550,058 by 0.85, then by 0.42, and obtained a figure of $1,267,371 per year.⁵ In those cases where fire suppression would confer the first-tier benefit, average annual damages avoided by fixed fire-extinguishing systems would be $2,464,958 ($5,868,947/year × 0.42 = $2,464,958/year). The combined average annual damage avoided by the systems would be $3,732,329 ($1,267,371 in cases when voyage planning would come first + $2,464,958 in those when the systems themselves would come first = $3,732,329).

³ Because net cost is negative, the voyage-planning requirement has a positive net benefit.

⁴ As the present value total benefit of voyage planning is greater than the present value total cost of voyage planning, the net cost is negative, at −$433,809. In turn, the net cost per barrel of pollution avoided is negative. When net cost per barrel of pollution avoided is −$70, that means each barrel of pollution avoided is associated with a net benefit of $70.

⁵ Recall that voyage planning reduces potential benefits by 15 percent; thus, only 85 percent remains. On average, a fixed fire-extinguishing system should reduce damages by 42 percent when effective.

We assume that 20 percent of the vessels would purchase and install fixed fire-extinguishing systems each year over the five-year phase-in period, so the annual benefit in damages avoided would increase from $746,466 the first year to $3,732,328 in the fifth and later years. Over the 13-year period of analysis, the present value of the total benefit from damage avoided to vessels and property would be $23,045,648 in 2000 dollars.

From 1992 through 1996 there were 7 minor injuries and 5 serious ones.⁶ The amount society would be willing to pay to avoid these injuries is $814,050 ($37,800 to avoid the 7 minor injuries + $776,250 to avoid the 5 serious injuries = $814,050). As these injuries occurred over a five-year period, their average annual value was $162,810 ($814,050/5 = $162,810).

⁶ The 12 injuries came from 6 cases.

We would expect fixed fire-extinguishing systems to reduce these injuries by 42 percent. So, they reduce injuries by $68,380 per year ($162,810 × 0.42 = $68,380).⁷ Over the 13-year period of analysis, the present value of the total benefit from injuries avoided would be $422,221 in 2000 dollars.

⁷ Voyage planning would not confer a first-tier benefit in these cases. Consequently, we do not subtract voyage-planning benefits before estimating fire-suppression benefits.

The MSMS database contains a table that shows the gallons of oil and other hazardous materials spilled “out of water” and “in waterways”. Of the 105 cases used to determine the benefits of fixed fire-extinguishing systems, 5 involved pollution. A total of 19,791 barrels were spilled during the five-year period from 1992 through 1996.

We estimate that fixed fire-extinguishing systems would reduce these spills by 42 percent. Before we calculated benefits from the systems, we deducted the benefits from voyage planning (when appropriate, to avoid double counting). Over the 13-year period of analysis, the systems should reduce pollution by 8,731 barrels.

Total Benefit and Cost-Effectiveness of Fixed Fire-Extinguishing Systems

Over the 13-year period of analysis, the present value of the avoided costs of fixed fire-extinguishing systems would be $23,467,869 in 2000 dollars ($23,045,648 for damages avoided + $422,221 for avoided injuries = $23,467,869).

The present value of the total cost of fixed fire-extinguishing systems would be $109,809,202. Because, we estimate, the requirement would reduce pollution by 8,731 barrels, the cost per barrel of pollution avoided would be $12,577 ($12,577/barrel = $109,809,202/8,731 barrels). The net cost of the requirement would be $86,341,334 ($109,809,202−$23,467,869 = $86,341,334). Thus, the net cost-effectiveness would be $9,889 per barrel ($9,889/barrel = $86,341,334/8,731 barrels). See Table 2.

Table 2.—Cost-Effectiveness of Fixed Fire-Extinguishing Systems
Cost of Fixed Fire-Extinguishing Systems (PV) | $109,809,202
Barrels of Pollution Avoided | 8,731
Cost per Barrel of Pollution Avoided | 12,577
Cost Avoided of Systems (PV) | 23,467,869
Net Cost of Systems | 86,341,334
Net Cost per Barrel of Pollution Avoided | 9,889

Total Avoided Cost of Rule

The present value of the total avoided cost of this rulemaking, we estimate, would be $30,007,645 in 2000 dollars ($6,539,776 from voyage planning + $23,467,869 from fixed fire-extinguishing systems = $30,007,645).

Cost-Effectiveness of Rule

Over the 13-year period of analysis, we estimate, the present value of the total cost of these rules would be $115,915,169 ($109,809,202 for fixed fire-extinguishing systems + $6,105,967 for voyage planning = $115,915,169). These rules would reduce pollution by 14,925 barrels (8,731 barrels avoided by the systems + 6,194 barrels avoided by voyage planning = 14,925 barrels). Consequently, the cost per barrel of pollution avoided by these rules (or the cost-effectiveness of these rules) would be $7,766 ($7,766 = $115,915,169/14,925 barrels).

Over the 13-year period of analysis, the present value of the total avoided cost of these rules would be $30,007,645 ($23,467,869 for the fixed fire-extinguishing systems + $6,539,776 for voyage planning = $30,007,645). The net cost of these rules would be $85,907,525 ($115,915,169—$30,007,645 = $85,907,525). The net cost per barrel is $5,756 = $85,907,525/14,925 barrels. See Table 3.

Table 3.—Cost-Effectiveness of Rule
Cost of Rule (PV) | $115,915,169
Barrels of Pollution Avoided by Rule | 14,925
Cost per Barrel of Pollution Avoided | 7,766
Avoided Cost of Rule (PV) | 30,007,645
Net Cost of Rule | 85,907,525
Net Cost per Barrel of Pollution Avoided | 5,756

Small Entities

Under the Regulatory Flexibility Act [5 U.S.C. 601-612], the Coast Guard considers the economic impact on small entities of each proposed rule for which a general notice of proposed rulemaking is required. “Small entities” include small businesses, not-for-profit organizations that are independently owned and operated and are not dominant in their fields, and governmental jurisdictions with populations of less than 50,000.

From our analysis (copy available in the docket), we concluded that the requirement of fixed fire-extinguishing systems might have a significant economic impact on a substantial number of small entities. Consequently, by establishing a five-year phase-in period for the systems, we would provide flexibility and accommodation for small entities affected. This would give small entities the time needed to explore markets, plan, and schedule installations during normal downtimes.

Assistance for Small Entities

Under section 213(a) of the Small Business Regulatory Enforcement Fairness Act of 1996 [Pub. L. 104-121], the Coast Guard wants to assist small entities in understanding this SNPRM so they can better evaluate its effects on them and participate in the rulemaking. If these proposed rules would affect your small business or organization, and if you have questions about their provisions or your options for compliance, please call Mr. Randall Eberly (for questions on fire-extinguishing systems), telephone 202-267-1861, or Mr. Robert Spears (for questions on voyage planning), telephone 202-267-1099.

The Small Business and Agriculture Regulatory Enforcement Ombudsman and 10 Regional Fairness Boards were established to receive comments from small businesses about enforcement by Federal agencies. The Ombudsman will annually evaluate the enforcement activities and rate each agency's responsiveness to small business. If you wish to comment on enforcement by the Coast Guard, call 1-888-REG-FAIR (1-888-734-3247).

Collection of Information

These proposed rules would not provide for a collection of information under the Paperwork Reduction Act of 1995 [44 U.S.C. 3501-3520].

Federalism

These proposed rules would revise the rules at 33 CFR part 164 that address voyage planning for towing vessels. They would also revise those at 46 CFR parts 25 and 27 that address fixed fire-extinguishing systems, their equipment, and its operation and maintenance on towing vessels. We have analyzed these rules under Executive Order 13132, Federalism.

It is well settled that States are precluded from regulation in categories that are reserved for regulation by the Coast Guard. It is also well settled, now, that all of the categories covered in 46 U.S.C. 3306, 3703(a), 7101, and 8101 (design, construction, alteration, repair, maintenance, operation, equipping, personnel qualification, and manning of vessels) are within the field foreclosed from State regulation. (See the decision of the Supreme Court in the consolidated cases of United States v. Locke and Intertanko v. Locke, 120 S. Ct. 1135, 2000 U.S. LEXIS 1895 (March 6, 2000).) These rules fall into those covered categories, thereby precluding States from regulation. Because States may not promulgate rules within these categories, preemption is not an issue under E.O. 13132.

Unfunded Mandates Reform Act

The Unfunded Mandates Reform Act of 1995 [2 U.S.C. 1531-1538] requires Federal agencies to assess the effects of their regulatory actions not specifically required by law. In particular, the Act addresses actions that may result in the expenditure by State, local, or tribal governments, in the aggregate, or by the private sector, of $100,000,000 or more in any one year.

While several State and local governments operate some towing vessels, entities in the private sector own and operate most of the affected ones. This SNPRM would not directly affect tribal governments. The total burden of Federal mandates that these rules would impose would be about $115,915,169 (present value of the total cost over the 13-year period of analysis). Therefore, these rules would not impose an unfunded mandate. Although they would not result in an annual expenditure of $100,000,000, we do discuss their effects elsewhere in the preamble.

Taking of Private Property

These proposed rules would not effect a taking of private property or otherwise have taking implications under E.O. 12630, Governmental Actions and Interference with Constitutionally Protected Property Rights.

Reform of Civil Justice

These proposed rules meet applicable standards in sections 3(a) and 3(b)(2) of E.O. 12988, Civil Justice Reform, to minimize litigation, eliminate ambiguity, and reduce burden.

Protection of Children

We have analyzed these proposed rules under E.O. 13045, Protection of Children from Environmental Health Risks and Safety Risks. These rules are not economically significant and do not concern an environmental risk to health or risk to safety that may disproportionately affect children.

Environment

The Coast Guard has considered the environmental impact of these proposed rules and concluded that under Figure 2-1, paragraphs (34)(c) and (d) of Commandant Instruction M16475.1C, these rules are categorically excluded from further environmental documentation. A Determination of Categorical Exclusion is available in the docket for inspection or copying where indicated under ADDRESSES.

List of Subjects

33 CFR Part, 164

Equipment, Incorporation by reference, Marine safety, Navigation safety, Vessels.

46 CFR Part 25

Fire-extinguishing equipment, Incorporation by reference, Life preservers, Marine safety, Vessels.

46 CFR Part 27

Fire prevention, Incorporation by reference, Marine safety, Reporting and recordkeeping requirements, Vessels.

For the reasons discussed in the preamble, the Coast Guard proposes to amend 33 CFR part 164, and 46 CFR parts 25 and 27, as follows:

PART 164—NAVIGATION SAFETY REGULATIONS

1. Revise the citation of authority for part 164 to read as follows:

Authority: 33 U.S.C. 1222(5), 1223, 1231; 46 U.S.C. 2103, 3703; 49 CFR 1.46. Sec. 164.13 also issued under 46 U.S.C. 8502. Sec. 164.61 also issued under 46 U.S.C. 6101.

2. Amend § 164.78 by revising paragraphs (a)(6) and (7) and adding paragraph (a)(8) to read as follows:

§ 164.78 Navigation under way; Towing vessels.

(a) * * *

(6) Knows the speed and direction of the current, set, and drift, and knows the tidal state for the area to be transited;

(7) Proceeds at a speed prudent for the weather, visibility, density of traffic, draft of tow, possibility of wake damage, speed of the current, and local speed-limits; and

(8) Monitors the trip or voyage plan required by § 164.80.

* * * * *

3. Amend § 164.80 by adding paragraph (c) to read as follows:

§ 164.80 Tests, inspections, and voyage planning.

* * * * *

(c) The owner or operator, and the master, of each towing vessel employed to tow a barge or barges must ensure the development of a voyage plan for each intended trip or voyage with the barge or barges, on the navigable waters of the United States, as defined in 33 U.S.C. 1222(5). The voyage plan must take into account all pertinent information, and be complete before the vessel embarks on a trip or voyage of more than 12 hours. The master must check the planned route for proximity to hazards and known environmentally sensitive areas (noted on charts or maps) before the trip or voyage starts. During a trip or voyage, if anyone in authority decides to deviate substantially from that route, then the master or mate must ensure the development of a plan for the new route before the vessel does deviate from the plan for the current route. Each plan must consider—

(1) Applicable information from up-to-date nautical charts and publications including Coast Pilot, Coast Guard Light List, and Coast Guard Local Notice to Mariners for each port of departure and for each port of call (destination);

(2) Current and forecasted weather, including visibility, wind, and sea state from each port of departure to each port of call;

(3) Data on tides and tidal currents for each port of departure and destination, as well as for ports of call, and on river stages, with forecasts, if applicable;

(4) Forward and after drafts of the barge or barges and under-keel and vertical clearances (air-gaps) for all bridges, ports, and mooring or berthing areas;

(5) Appropriate pre-departure checks;

(6) Calculated speeds and estimated times of arrival at proposed waypoints;

(7) Communication contacts at Vessel Traffic Services (if applicable), bridges, and facilities, and port-specific requirements for VHF radio;

(8) Any standing orders (for instance, closest points of approach, special conditions, and critical maneuvers); and

(9) Whether the vessel has sufficient power to control the tow under all foreseeable circumstances.

PART 25—REQUIREMENTS

4. The citation of authority for part 25 continues to read as follows:

Authority: 33 U.S.C. 1903(b); 46 U.S.C. 3306, 4302; 49 CFR 1.46.

5. Revise § 25.30-15 to read as follows:

§ 25.30-15 Fixed fire-extinguishing systems.

(a) When a fixed fire-extinguishing system is installed, it must be of a type approved or accepted by the Commandant (G-MSE) or the Commanding Officer, U.S. Coast Guard Marine Safety Center.

(b) If the system is of a carbon-dioxide type, then it must be designed and installed in agreement with the applicable provisions of subpart 76.15 of part 76 of subchapter H (Passenger Vessels) of this chapter.

PART 27—TOWING VESSELS

6. Revise the citation of authority for part 27 to read as follows:

Authority: 46 U.S.C. 3306, 4102 (as amended by Pub. L. 104-324, 110 Stat. 3947); 49 CFR 1.46.

§ 27.220 [Removed]

7. Remove the heading of § 27.220.

§ 27.221 [Removed]

8. Remove the heading of § 27.221.

§ 27.225 [Removed]

9. Remove the heading of § 27.225.

10. Add § 27.227 to read as follows:

§ 27.227 What type of fire-extinguishing equipment is required on an existing towing vessel?

(a) Each existing towing vessel must comply with subpart 25.30 of this part.

(b) By [Insert date 5 years after the effective date of the final rule] you must have a fixed fire-extinguishing system in the engine room of your vessel. You must keep the system tested and maintained in accordance with the manufacturer's approved design manual. An existing fire-extinguishing system satisfies this requirement if—

(1) It uses carbon dioxide as an extinguishing agent and has been inspected and certified as meeting subpart 76.15 of part 76 of this subchapter or NFPA 12, “Carbon Dioxide Extinguishing Systems,” by a Registered Professional Engineer or by a classification society recognized under 46 CFR part 8, subpart B; or

(2) It uses Halon 1301 as an extinguishing agent and has been inspected and certified as meeting either guidance of the Coast Guard for such systems onboard inspected vessels or NFPA 12A, “Halon 1301 Fire Extinguishing Systems,” by a Registered Professional Engineer or by a classification society recognized under 46 CFR part 8, subpart B.

§ 27.235 [Removed]

11. Remove the heading of § 27.235.

§ 27.240 [Removed]

12. Remove the heading of § 27.240.

§ 27.320 [Removed]

13. Remove the heading of § 27.320.

§ 27.321 [Removed]

14. Remove the heading of § 27.321.

§ 27.325 [Removed]

15. Remove the heading of § 27.325.

§ 27.326 [Removed]

16. Remove the heading of § 27.326.

17. Add § 27.327 to read as follows:

§ 27.327 What type of fire-extinguishing equipment is required on a new towing vessel?

(a) Each new towing vessels must comply with subpart 25.30 of part 25 of this subchapter.

(b) You must have a fixed fire-extinguishing system in the engine room of your vessel. You must keep the system tested and maintained in accordance with the manufacturer's approved design manual.

§ 27.345 [Removed]

18. Remove the heading of § 27.345.

§ 27.350 [Removed]

19. Remove the heading of § 27.350.

Dated: October 13, 2000.
R.C. North,
Rear Admiral, Coast Guard, Assistant Commandant for Marine Safety and Environmental Protection.

[FR Doc. 00-28585 Filed 11-7-00; 8:45 am]

BILLING CODE 4910-15-U